DEPARTMENT OF ENERGY

Federal Regulatory Commission

[Docket No. RP00-30-004]

ANR Pipeline Company; Notice of Compliance Filing

March 9, 2000.

Take notice that on March 6, 2000, ANR Pipeline Company (ANR) tendered for filing as part of its FERC Gas Tariff, Second Revised Volume No. 1, a motion to place rate schedule ITS-3 into effect and the revised tariff sheets listed in Appendix A to the filing, to be effective March 1, 2000.

ANR states that this filing is made in compliance with the Commission's Order dated February 28, 2000 in the captioned proceeding.

ANR states that copies of the filing have been mailed to all affected customers and state regulatory commission.

Any person desiring to protest this filing should file a protest with the Federal Energy Regulatory Commission, 888 First Street, N.E., Washington, D.C. 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-6305 Filed 3-14-00; 8:45 am]

BILLING CODE 6717-01-M